DEPARTMENT OF COMMERCE

Foreign-Trade Zones Board

[Docket 32-2008]

Foreign-Trade Zone 102—St. Louis County, MO; Application for Expansion

An application has been submitted to the Foreign-Trade Zones Board (the Board) by the St. Louis County Port Authority, grantee of FTZ 102, requesting authority to expand the zone in St. Louis County, Missouri. The application was submitted pursuant to the provisions of the Foreign-Trade Zones Act, as amended (19 U.S.C. 81a-81u), and the regulations of the Board (15 CFR part 400). It was formally filed on May 9, 2008.

FTZ 102 was approved on April 27, 1984 (Board Order 251, 49 FR 19540, 5/8/84), and expanded on March 3, 1987 (Board Order 344, 52 FR 7915, 3/13/87). The general-purpose zone consists of one site (484,920 sq. ft.) located at 3901 Union Boulevard in St. Louis.

The applicant is now requesting authority to expand the zone to include two additional sites around the Lambert-St. Louis International Airport in St. Louis County: Proposed Site 2 (492 acres)—NorthPark industrial park located at the northeast corner of Interstates 70 and 170 in the municipalities of Berkeley, Ferguson and Kinloch; and, Proposed Site 3 (272 acres, 3 parcels)—Hazelwood Commerce Center (170 acres), located on Commerce Center Drive, Hazelwood; Lindbergh Distribution Center (26 acres), 5801 N. Lindbergh Boulevard, Hazelwood; and, Airport Property No. 1 (76 acres), 5260 Banshee Road, St. Louis. The sites will provide warehousing and distribution services to area businesses. No specific manufacturing authority is being requested at this time. Such requests would be made to the Board on a case-by-case basis.

In accordance with the Board's regulations, Camille Evans of the FTZ staff is designated examiner to investigate the application and report to the Board.

Public comment is invited from interested parties. Submissions (original and 3 copies) shall be addressed to the Board's Executive Secretary at the address below. The closing period for their receipt is July 15, 2008. Rebuttal comments in response to material submitted during the foregoing period may be submitted during the subsequent 15-day period to July 30, 2008.

A copy of the application and accompanying exhibits will be available for public inspection at each of the following locations: U.S. Department of Commerce, Export Assistance Center, 8235 Forsyth Boulevard, Suite 520, St. Louis, MO 63105; and, Office of the Executive Secretary, Foreign-Trade Zones Board, U.S. Department of Commerce, Room 2111, 1401 Constitution Avenue, NW., Washington, DC 20230.

For further information, contact Camille Evans at Camille_Evans@ita.doc.gov or (202) 482-2350.

Dated: May 9, 2008.
Andrew McGilvray,
Executive Secretary.

[FR Doc. E8-11053 Filed 5-15-08; 8:45 am]

BILLING CODE 3510-DS-P